DEPARTMENT OF HEALTH AND HUMAN SERVICES

Administration on Aging

Agency Information Collection Activities; Submission for OMB Review; Comment Request; National Survey of Older Americans Act Title III Service Recipients

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by September 13, 2010.

ADDRESSES: Submit written comments on the collection of information by fax 202.395.6974 to the OMB Desk Officer for AoA, Office of Information and Regulatory Affairs, OMB.

FOR FURTHER INFORMATION CONTACT: Valerie Cook 202-357-3583.

SUPPLEMENTARY INFORMATION: In compliance with 44 U.S.C. 3507, AoA has submitted the following proposed collection of information to OMB for review and clearance.

The National Survey of Older Americans Act Title III Service Recipients information collection, which builds on earlier national pilot studies and surveys, as well as performance measurement tools developed by AoA grantees in the Performance Outcomes Measures Project (POMP), will include consumer assessment surveys for the Congregate and Home-delivered meal nutrition programs; Case Management, Homemaker, and Transportation Services; and the National Family Caregiver Support Program. This information will be used by AoA to track performance outcome measures; support budget requests; comply with Government Performance and Results Act (GPRA) reporting requirements; provide national benchmark information for POMP grantees; and inform program development and management initiatives. Descriptions of previous National Surveys of Older Americans Act Participants can be found under the section on Performance Outcomes on AoA's Web site at: http://www.aoa.gov/AoARoot/Program_Results/OAA_Performance.aspx. Copies of the survey instruments and data from previous National Surveys of OAA Participants can be found and queried using the AGing Integrated Database (AGID) at http://www/agidnet.org/.

AoA estimates the burden of this collection of information as follows: Respondents: Individuals; Number of Respondents: 6,250; Number of Responses per Respondent: one; Average Burden per Response: 6,000 at 30 minutes, 250 at 4 hours: Total Burden: 6,250 hours.

Dated: August 9, 2010.
Kathy Greenlee,
Assistant Secretary for Aging.

[FR Doc. 2010-19957 Filed 8-11-10; 8:45 am]

BILLING CODE 4154-01-P